DEPARTMENT OF LABOR

Occupational Safety and Health Administration

[Docket No. OSHA-2006-0040]

SGS North America, Inc.: Application for Expansion of Recognition and Proposed Modification to the NRTL Program's List of Appropriate Test Standards

AGENCY: Occupational Safety and Health Administration (OSHA), Labor.

ACTION: Notice.

SUMMARY: In this notice, OSHA announces the application of SGS North America, Inc., for expansion of recognition as a Nationally Recognized Testing Laboratory (NRTL) and presents the agency's preliminary finding to grant the application. Additionally, OSHA proposes to add four test standards to the NRTL Program's List of Appropriate Test Standards.

DATES: Submit comments, information, and documents in response to this notice, or requests for an extension of time to make a submission, on or before November 16, 2021.

ADDRESSES: Submit comments by any of the following methods:

Electronically: You may submit comments and attachments electronically at: https://www.regulations.gov, which is the Federal eRulemaking Portal. Follow the instructions online for submitting comments.

Docket: To read or download comments or other material in the docket, go to http://www.regulations.gov. Documents in the docket are listed in the http://www.regulations.gov index; however, some information (e.g., copyrighted material) is not publicly available to read or download through the website. All submissions, including copyrighted material, are available for inspection through the OSHA Docket Office. Contact the OSHA Docket Office at (202) 693-2350 (TTY (877) 889-5627) for assistance in locating docket submissions.

Instructions: All submissions must include the agency name and the OSHA docket number for this Federal Register notice (OSHA-2006-0040). OSHA will place comments, attachments and other information and requests, including personal information, in the public docket without revision, and these materials will be available online at http://www.regulations.gov. Therefore, the agency cautions commenters about submitting statements they do not want made available to the public, or submitting comments that contain personal information (either about themselves or others) such as Social Security numbers, birth dates, and medical data. For further information on submitting comments, see the “Public Participation” heading in the section of this notice titled SUPPLEMENTARY INFORMATION.

Extension of comment period: Submit requests for an extension of the comment period on or before November 16, 2021 to the Office of Technical Programs and Coordination Activities, Directorate of Technical Support and Emergency Management, Occupational Safety and Health Administration, U.S. Department of Labor, or by fax to (202) 693-1644.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor; phone: (202) 693-2110 or email: robinson.kevin@dol.gov.

SUPPLEMENTARY INFORMATION:

I. Notice of the Application for Expansion

The Occupational Safety and Health Administration is providing notice that SGS North America, Inc. (SGS) is applying for an expansion of the current recognition as a NRTL. SGS requests the addition of nineteen test standards to its NRTL scope of recognition.

OSHA recognition of a NRTL signifies that the organization meets the requirements specified in 29 CFR 1910.7. Recognition is an acknowledgment that the organization can perform independent safety testing and certification of the specific products covered within the scope of recognition. Each NRTL's scope of recognition includes (1) the type of products the NRTL may test, with each type specified by the applicable test standard; and (2) the recognized site(s) that has/have the technical capability to perform the product-testing and product-certification activities for test standards within the NRTL's scope. Recognition is not a delegation or grant of government authority; however, recognition enables employers to use products approved by the NRTL to meet OSHA standards that require product testing and certification.

The agency processes applications by NRTLs or applicant organizations for initial recognition, as well as for expansion or renewal of recognition, following requirements in Appendix A to 29 CFR 1910.7. This appendix requires that the agency publish two notices in the Federal Register in processing an application. In the first notice, OSHA announces the application and provides a preliminary finding. In the second notice, the agency provides the final decision on the application. These notices set forth the NRTL's scope of recognition or modifications of that scope. OSHA maintains an informational web page for each NRTL, including SGS, which details that NRTL's scope of recognition. These pages are available from the OSHA website at http://www.osha.gov/dts/otpca/nrtl/index.html.

SGS currently has nine facilities (sites) recognized by OSHA for product testing and certification, with the headquarters located at: SGS North America, Inc., 620 Old Peachtree Road, Suwanee, Georgia 30024. A complete list of SGS's scope of recognition is available at https://www.osha.gov/dts/otpca/nrtl/sgs.html.

II. General Background on the Application

SGS submitted an application to OSHA to expand recognition as a NRTL to include twenty additional test standards on June 5, 2020 (OSHA-2006-0040-0067). This application was amended on June 8, 2021, to remove one standard from the original application. OSHA staff performed a detailed analysis of the application packet and reviewed other pertinent information. OSHA did not perform any on-site reviews in relation to this application. OSHA has determined that one of the standards requested in the application, UL 4200A, Standard for Products Incorporating Button or Coin Cell Batteries of Lithium Technologies does not meet the appropriate test standard requirements in 29 CFR 1910.7(c) and will not consider this standard in SGS's expansion application. UL 4200A does not specify the safety requirements for specific equipment or class of equipment as required by the regulation. OSHA will consider the expansion application for the remaining eighteen standards.

Table 1 lists the eighteen test standards in SGS's amended expansion application that OSHA has determined are appropriate.

Table 1—Proposed List of Appropriate Test Standards for Inclusion in SGS's NRTL Scope of Recognition
Test standard | Test standard title
UL 50 | Enclosures for Electrical Equipment.
UL 458 | Power Converters/Inverters and Power Converter/Inverter Systems for Land Vehicles and Marine Crafts.
UL 1973 | Standard for Batteries for Use in Stationary, Vehicle Auxillary Power and Light Electric Rail (LER) Applications.
UL 2054 | Standard for Household and Commercial Batteries.
UL 2097 | Reference Standard for Double Insulation Systems for Use in Electronic Equipment.
UL 2271 | Standard for Batteries for Use in Light Electric Vehicles (LEV) Applications.
UL 2272 * | Standard for Electrical Systems for Personal E-Mobility Devices.
UL 2738 | Standard for Induction Power Transmitters and Receivers for Use with Low Energy Products.
UL 2743 * | Standard for Portable Power Packs.
UL 8139 * | Electrical Systems of Electronic Cigarettes and Vaping Devices.
UL 1090 | Electric Snow Movers.
UL 1447 | Electric Lawn Mowers.
UL 61010-2-040 | Safety Requirements for Electrical Equipment for Measurement, Control and Laboratory Use—Part 2-040: Particular Requirements for Sterilizers and Washer-Disinfectors Used to Treat Medical Materials.
UL 61010-2-081 | Standard for Safety Requirements for Electrical Equipment for Measurement, Control, and Laboratory Use—Part 2-081: Particular Requirements for Automatic and Semi-Automatic Laboratory Equipment for Analysis and Other Purposes.
UL 61010-2-091 | Standard for Safety Requirements for Electrical Equipment for Measurement, Control, and Laboratory Use—Part 2-091: Particular Requirements for Cabinet X-Ray Systems.
UL 61010-2-101 | Safety Requirements for Electrical Equipment for Measurement, Control and Laboratory Use—Part 2-101: Particular Requirements for In Vitro Diagnostic (IVD) Medical Equipment.
UL 61010-2-201 | Safety Requirements for Electrical Equipment for Measurement, Control and Laboratory Use—Part 2-201: Particular Requirements for Control Equipment.
UL 2849 * | Standard for Electrical Systems for eBikes.
* Represents a standard OSHA proposes to add to the NRTL Program's List of Appropriate Test Standards.

III. Proposal To Add New Test Standards to the NRTL Program's List of Appropriate Test Standards

Periodically, OSHA will propose to add new test standards to the NRTL list of appropriate test standards following an evaluation of the test standard document. To qualify as an appropriate test standard, the agency evaluates the document to (1) verify it represents a product category for which OSHA requires certification by a NRTL, (2) verify the document represents an end product and not a component, and (3) verify the document defines safety test specifications (not installation or operational performance specifications). OSHA becomes aware of new test standards through various avenues. For example, OSHA may become aware of new test standards by: (1) Monitoring notifications issued by certain Standards Development Organizations; (2) reviewing applications by NRTLs or applicants seeking recognition to include new test standard in their scopes of recognition; and (3) obtaining notification from manufacturers, manufacturing organizations, government agencies, or other parties. OSHA may determine to include a new test standard in the list, for example, if the test standard is for a particular type of product that another test standard also covers or it covers a type of product that no standard previously covered.

In this notice, OSHA proposes to add four new test standards to the NRTL Program's list of appropriate test standards. Table 2, below, lists these test standards.

Table 2—Test Standards OSHA Is Proposing To Add to the NRTL Program's List of Appropriate Test Standards
Test standard | Test standard title
UL 2272 | Standard for Electrical Systems and Personal E-Mobility Devices.
UL 2743 | Standard for Portable Power Packs.
UL 8139 | Electrical Systems of Electronic Cigarettes and Vaping Devices.
UL 2849 | Standard for Electrical Systems for eBikes.

IV. Preliminary Findings

SGS submitted an acceptable application for expansion of the scope of recognition. OSHA's review of the application file and pertinent documentation preliminarily indicates that SGS can meet the requirements prescribed by 29 CFR 1910.7 for expanding its recognition to include the addition of the eighteen test standards listed in Table 1, above, for NRTL testing and certification. This preliminary finding does not constitute an interim or temporary approval of SGS's application.

OSHA has also preliminarily determined that the four test standards listed in Table 2, above, are appropriate test standard and that these test standards should be added to the NRTL Program's List of Appropriate Test Standards.

OSHA seeks public comment on these preliminary determinations.

V. Public Participation

OSHA welcomes public comment as to whether SGS meets the requirements of 29 CFR 1910.7 for expansion of the recognition as a NRTL and whether the test standards listed in Table 2, above, are appropriate test standard that should be included in the NRTL Program's List of Appropriate Test Standards. Comments should consist of pertinent written documents and exhibits.

Commenters needing more time to comment must submit a request in writing, stating the reasons for the request. Commenters must submit the written request for an extension by the due date for comments. OSHA will limit any extension to 10 days unless the requester justifies a longer period. OSHA may deny a request for an extension if the request is not adequately justified.

To review copies of the exhibits identified in this notice, as well as comments submitted to the docket, contact the Docket Office, Occupational Safety and Health Administration, U.S. Department of Labor. These materials also are generally available online at http://www.regulations.gov under Docket No. OSHA-2006-0040 (for further information, see the “Docket” heading in the section of this notice titled ADDRESSES).

OSHA staff will review all comments to the docket submitted in a timely manner and, after addressing the issues raised by these comments, will make a recommendation to the Assistant Secretary for Occupational Safety and Health whether to grant SGS's application for expansion of the scope of recognition and to add the test standards listed in Table 2, above, to the NRTL Program's List of Appropriate Test Standards. The Assistant Secretary will make the final decision on granting the application and on adding the test standards listed in Table 2, above, to the NRTL Program's List of Appropriate Test Standards. In making these decisions, the Assistant Secretary may undertake other proceedings prescribed in Appendix A to 29 CFR 1910.7.

OSHA will publish a public notice of the final decision in the Federal Register.

VI. Authority and Signature

James S. Frederick, Acting Assistant Secretary of Labor for Occupational Safety and Health, 200 Constitution Avenue NW, Washington, DC 20210, authorized the preparation of this notice. Accordingly, the agency is issuing this notice pursuant to 29 U.S.C. 657(g)(2), Secretary of Labor's Order No. 8-2020 (85 FR 58393, September 18, 2020) and 29 CFR 1910.7.

Signed at Washington, DC, on October 25, 2021.
James S. Frederick,
Acting Assistant Secretary of Labor for Occupational Safety and Health.

[FR Doc. 2021-23690 Filed 10-29-21; 8:45 am]

BILLING CODE 4510-26-P